DEPARTMENT OF VETERANS AFFAIRS

[OMB Control No. 2900-0406]

Agency Information Collection Activity Under OMB Review: Verification of VA Benefits

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden, and it includes the actual data collection instrument.

DATES: Comments and recommendations for the proposed information collection should be sent by May 19, 2025.

ADDRESSES: To submit comments and recommendations for the proposed information collection, please type the following link into your browser: www.reginfo.gov/public/do/PRAMain, select “Currently under Review—Open for Public Comments”, then search the list for the information collection by Title or “OMB Control No. 2900-0406.”

FOR FURTHER INFORMATION CONTACT: VA PRA information: Dorothy Glasgow, 202-461-1084, VAPRA@va.gov.

SUPPLEMENTARY INFORMATION:

Title: Verification of VA Benefits (VA Form 26-8937).

OMB Control Number: 2900-0406 https://www.reginfo.gov/public/do/PRASearch.

Type of Review: Revision of a currently approved collection.

Abstract: VA Form 26-8937 is designed to assist lenders and VA in the completion of debt checks in a uniform manner. The form restricts information requested to only that needed for the debt check and also eliminates unlimited versions of lender-designed forms. This form is also occasionally used to inform the lender prior to loan closing if a Veteran is eligible for an exemption from the funding fee.

Lenders ensure the completion of the upper portion of VA Form 26-8937, including the veteran's authorization for release of the information, and forward it to the appropriate VA Office. VA personnel perform the debt check, complete the balance of the form, and return it to the lender, who considers any repayment terms in evaluating the veteran's creditworthiness. Following the closing of any loan, the lender submits the form with the loan report and related documents for post-closing review. The form is reviewed by a loan examiner to ensure that debt check requirements have been observed in each case.

The decrease in the use of the form is due to system enhancements which now allow VA to provide the lenders more reliable and timely updates (Veteran's funding fee exemption status, the amount of a Veteran's VA service-connected disability award, or the loan level requirement for VA pre-close prior approval) on the veteran's Certificate of Eligibility, which in turn has reduced the need for the lenders to submit the verification form. The form is still required from the lender for VA pending pre-discharge claims or when system issues prevent automatic COE updates.

An agency may not conduct or sponsor, and a person is not required to respond to a collection of information unless it displays a currently valid OMB control number. The Federal Register Notice with a 60-day comment period soliciting comments on this collection of information was published at insert citation date: 90 FR 4852, January 16, 2025.

Affected Public: Individuals or Households.

Estimated Annual Burden: 250 hours.

Estimated Average Burden per Respondent: 5 minutes.

Frequency of Response: One time.

Estimated Number of Respondents: 3,000.

(Authority: 44 U.S.C. 3501 et seq.)

Dorothy Glasgow,
Acting, VA PRA Clearance Officer, Office of Enterprise and Integration, Data Governance Analytics, Department of Veterans Affairs.

[FR Doc. 2025-06696 Filed 4-17-25; 8:45 am]

BILLING CODE 8320-01-P